DEPARTMENT OF HEALTH AND HUMAN SERVICES

Food and Drug Administration

[Docket No. FDA-2015-N-0007]

Fee for Using a Rare Pediatric Disease Priority Review Voucher in Fiscal Year 2016; Correction

AGENCY: Food and Drug Administration, HHS.

ACTION: Notice; correction.

SUMMARY: The Food and Drug Administration is correcting a notice entitled “Fee for Using a Rare Pediatric Disease Priority Review Voucher in Fiscal Year 2016” that appeared in the Federal Register of September 28, 2015 (80 FR 58262). The document announced the fee rate for using a rare pediatric disease priority review voucher for fiscal year 2016. The document was published with the incorrect docket number. This document corrects that error.

FOR FURTHER INFORMATION CONTACT: Lisa Granger, Food and Drug Administration, Bldg. 32, Rm. 3330, Silver Spring, MD 20993, 301-796-9115, Lisa.Granger@fda.hhs.gov.

SUPPLEMENTARY INFORMATION: In FR Doc. 2015-24508, appearing on page 58262 in the Federal Register of Monday, September 28, 2015, the following correction is made:

On page 58262, in the third column, in the headings section of the document, “FDA-2014-N-0007” is corrected to read “FDA-2015-N-0007”.

Dated: October 2, 2015.
Jill Hartzler Warner,
Associate Commissioner for Special Medical Programs.

[FR Doc. 2015-25525 Filed 10-6-15; 8:45 am]

BILLING CODE 4164-01-P